DEPARTMENT OF COMMERCE

International Trade Administration

Postponement of Preliminary Determination of Antidumping Duty Investigation: Outboard Engines From Japan (A-588-865)

AGENCY: Import Administration, International Trade Administration, Department of Commerce.

SUMMARY: The Department of Commerce (the Department) is postponing the preliminary determination in the antidumping duty investigation of outboard engines from Japan until no later than July 16, 2004. This postponement is made pursuant to section 733(c)(1)(B) of the Tariff Act of 1930, as amended (the Act).

EFFECTIVE DATE: May 26, 2004.

FOR FURTHER INFORMATION CONTACT: James Kemp at (202) 482-5346 or Shane Subler at (202) 482-0189, Import Administration, International Trade Administration, U.S. Department of Commerce, 14th Street and Constitution Avenue, NW., Washington, DC 20230.

SUPPLEMENTARY INFORMATION:

Postponement of Due Date for Preliminary Determination

On January 28, 2004, the Department initiated an antidumping duty investigation of outboard engines from Japan. See Notice of Initiation of Antidumping Duty Investigation: Outboard Engines from Japan, 69 FR 5316 (February 4, 2004). The notice of initiation stated that we would issue our preliminary determination no later than 140 days after the date of initiation. See Id. Currently, the preliminary determination in this investigation is due on June 16, 2004.

On April 30, 2004, the petitioner ¹ made a timely request pursuant to 19 CFR 351.205(e) for a thirty-day postponement of the preliminary determination until July 16, 2004. The petitioner requested postponement of the preliminary determination because it believes additional time is necessary to allow the petitioner to review the responses to the questionnaire and other materials submitted in this investigation, to submit comments to the Department, and to allow the Department time to thoroughly analyze the respondent's data and to seek additional information, if necessary.

¹ The petitioner in this investigation is Mercury Marine, a division of Brunswick Corporation.

For the reasons identified by the petitioner, and because there are no compelling reasons to deny the request, we are postponing the preliminary determination under section 733(c)(1) of the Act. Therefore, the preliminary determination is now due no later than July 16, 2004. The deadline for the final determination will continue to be 75 days after the date of the preliminary determination. This notice is issued and published pursuant to sections 733(f) and 777(i) of the Act.

Dated: May 20, 2004.
Jeffrey May,
Deputy Assistant Secretary for Import Administration.

[FR Doc. 04-11915 Filed 5-25-04; 8:45 am]

BILLING CODE 3510-DS-P